DEPARTMENT OF COMMERCE

National Oceanic and Atmospheric Administration

[I.D. 061900B]

Antarctic Marine Living Resources Conservation and Management Measures

AGENCY: National Marine Fisheries Service (NMFS), National Oceanic and Atmospheric Administration (NOAA), Commerce.

ACTION: Proposed information collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before August 21, 2000.

ADDRESSES: Direct all written comments to Linda Engelmeier, Departmental Forms Clearance Officer, Department of Commerce, Room 6066, 14th and Constitution Avenue NW, Washington DC 20230 (or via Internet at lengelme@doc.gov).

FOR FURTHER INFORMATION CONTACT: Requests for additional information or copies of the information collection instrument(s) and instructions should be directed to Robin Tuttle, Office of Science and Technology, International Science Coordination & Analysis Division (F/ST3), 1315 East West Highway, Room 12643, Silver Spring, Maryland 20910, (301-713-2282).

SUPPLEMENTARY INFORMATION:

I. Abstract

Pursuant to the Antarctic Marine Living Resources Act of 1984, NOAA regulates the harvesting and import of Antarctic marine living resources (AMLR) by U.S. individuals and entities through the issuance of: (1) harvesting and dealer permits for AMLR harvested in the area of the Convention for the Conservation of Antarctic Marine Living Resources (CCAMLR); and (2) harvesting, transshipment and dealer permits for Dissostichus species wherever harvested. NOAA also requires the use of Dissostichus catch documents for all harvests and transshipments by U.S. fishing vessel masters and all imports by U.S. dealers. Permits are issued, forms are used, and information collected to implement conservation and management measures adopted by the CCAMLR. Research and data collection plans are required of fishers who propose to undertake new or exploratory fisheries. Plans for finfish surveys are required of researchers intending to take more than 50 tons of CCAMLR finfish during the survey. Entry permits are required of individuals who enter a CCAMLR Ecosystem Monitoring (CEMP) site.

II. Method of Collection

Fishers seeking permits to harvest AMLR species and/or transship Dissostichus species submit permit applications to the NMFS. Fishers holding permits and fishing in the Convention Area are required to make periodic radio contact to report on catches of and effort directed at certain AMLR species. Fishers proposing to conduct a new or exploratory fishery are required to submit information describing the operation. Fishers holding permits to harvest and/or transship Dissostichus species submit catch documents. Dealers seeking to import AMLR species or re-export Dissostichus species submit permit applications to the NMFS. Dealers holding permits submit import tickets within 24 hours of each import. Dealers holding permits to import Dissostichus species forward catch documents completed by the masters of vessels harvesting Dissostichus species to the NMFS within 24 hours of import. Researchers who anticipate catches of less than fifty tons of AMLR finfish submit a notification of research vessel activity. Researchers who anticipate catches of greater than fifty tons of AMLR finfish submit plans for finfish surveys. Fishers not required to use a vessel monitoring system will provide positional information by radio contact. Persons proposing to enter a CCAMLR CEMP site submit an application for an entry permit and report annually on CEMP site activity.

III. Data

OMB Number: 0648-0194.

Form Number: None.

Type of Review: Regular submission.

Affected Public: Business and other for-profit organizations, individuals.

Estimated Number of Respondents: 58.

Estimated Time Per Response: 30 minutes for a permit application for an established fishery; 24 hours (a range of 16-40 hours) for a permit application for a new or exploratory fishery; 12 minutes for an application to transship; 30 minutes for a dealer permit application; 15 minutes for an import ticket; 30 minutes for a permit application to re-export Dissostichus species; 15 minutes to complete and provide catch documents to dealers; 3 minutes for a dealer to transmit catch documents for imports; 10 minutes for a dealer to transmit catch documents for re-exports; 2 minutes for radio contacts; and 1 hour for a CEMP site entry application. There is no U.S. research effort underway or planned which will exceed the tonnage figures required for reporting, and no response times are now estimated.

Estimated Total Annual Burden Hours: 100.

Estimated Total Annual Cost to Public: $1,220.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and /or included in the request for OMB approval of this information collection; they also will become a matter of public record.

Dated: June 15, 2000.
Madeleine Clayton,
Management Analyst, Office of the Chief Information Officer.

[FR Doc. 00-15854 Filed 6-21-00; 8:45 am]

BILLING CODE 3510-22-F